INTERNATIONAL TRADE COMMISSION

[Investigation No. 731-TA-860 (Third Review)]

Tin- and Chromium-Coated Steel Sheet From Japan; Determination

On the basis of the record ¹ developed in the subject five-year review, the United States International Trade Commission (“Commission”) determines, pursuant to the Tariff Act of 1930 (“the Act”), that revocation of the antidumping duty order on tin- and chromium-coated steel sheet from Japan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on May 1, 2017 (82 FR 20378) and determined on August 4, 2017 that it would conduct a full review (82 FR 40168, August 24, 2017). Notice of the scheduling of the Commission's review and of a public hearing to be held in connection therewith was given by posting copies of the notice in the Office of the Secretary, U.S. International Trade Commission, Washington, DC, and by publishing the notice in the Federal Register on October 20, 2017 (82 FR 49661). The hearing was held in Washington, DC, on February 27, 2018, and all persons who requested the opportunity were permitted to appear in person or by counsel.

The Commission made this determination pursuant to section 751(c) of the Act (19 U.S.C. 1675(c)). It completed and filed its determination in this review on June 19, 2018. The views of the Commission are contained in USITC Publication 4795 (June 2018), entitled Tin- and Chromium-Coated Steel Sheet from Japan: Investigation No. 731-TA-860 (Third Review).

By order of the Commission.
Issued: June 19, 2018.
Lisa Barton,
Secretary to the Commission.

[FR Doc. 2018-13504 Filed 6-22-18; 8:45 am]

BILLING CODE 7020-02-P